DEPARTMENT OF ENERGY

Federal Energy Regulatory Commission

[Project No. 1494-433]

Grand River Dam Authority; Notice of Application for Amendment of License and Soliciting Comments, Motions To Intervene, and Protests

Take notice that the following hydroelectric application has been filed with the Commission and is available for public inspection:

a. Application Type: Amendment of Article 401 reservoir elevation rule curve in order to keep reservoir levels in the Grand Lake O' the Cherokees (Grand Lake) higher than normal from August 16 through October 31. As explained in (k) below, this notice only seeks comments, motions to intervene, and protests on a temporary variance from the rule curve, for the period from August 16 through October 31, 2016.

b. Project No.: 1494-433.

c. Date Filed: May 6, 2016; supplemented June 2, 2016 and June 30, 2016.

d. Applicant: Grand River Dam Authority (GRDA).

e. Name of Project: Pensacola Hydroelectric Project.

f. Location: The project is located on the Grand River in Craig, Delaware, Mayes, and Ottawa Counties, Oklahoma.

g. Filed Pursuant to: Federal Power Act, 16 U.S.C. 791(a)-825(r).

h. Applicant Contact: Tamara E. Jahnke, Assistant General Counsel, Grand River Dam Authority, P.O. Box 409, Vinita, OK 74301-0409; telephone: (918) 256-5545.

i. FERC Contact: Linda Stewart, telephone (202) 502-6680, email linda.stewart@ferc.gov; or B. Peter Yarrington, telephone (202) 502-6129, email peter.yarrington@ferc.gov.

j. Deadline for filing comments, motions to intervene, and protests is 14 days from the issuance date of this notice by the Commission.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail a copy to: Kimberly D. Bose, Secretary, Federal Energy Regulatory Commission, 888 First Street NE., Washington, DC 20426. Please include the project number (P-1494-433) on any comments or motions filed.

k. Description of Request: In its application, GRDA requests a permanent amendment of the project's Article 401 reservoir elevation rule curve to go into effect August 16, 2016, and remain in effect through the remaining term of the project license. GRDA requests, if a permanent amendment cannot be reviewed by the Commission by August 16, 2016, that a temporary variance for August 16 through October 31, 2016 only be considered while the Commission continues to process its request for a permanent amendment. This notice only seeks comments, motions to intervene, and protests on GRDA's request for a temporary variance for the period from August 16 through October 31, 2016.

GRDA indicates that it seeks the rule curve change to reduce the risk of vessel groundings at Grand Lake in late summer, improve recreation during a peak recreation season, better balance competing stakeholder interests, and provide additional water storage so that, in the event of drought, water would be available for release to aid in maintaining water quality in the river downstream.

Under GRDA's proposal, between August 16 and September 15, the reservoir would be maintained at elevation 743 feet Pensacola Datum (PD), which is up to two feet higher than the current rule curve. Between September 16 and September 30, the elevation would be lowered from 743 to 742 feet PD. Between October 1 and October 31, the reservoir would be maintained at elevation 742 feet PD, which is up to one foot higher than the current rule curve. After October 31, reservoir elevations would follow the project's current rule curve. With its application, GRDA includes a Storm Adaptive Management Plan that would be followed to address high water conditions upstream and downstream of Grand Lake during major precipitation events in the river basin. GRDA also includes a Drought Adaptive Management Plan that would be followed to determine project operation, including deviations from the rule curve elevations, to allow releases for maintenance of downstream water quality and reliable operation of GRDA's downstream Salina Pumped Storage Project if certain drought conditions occur.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. A copy is also available for inspection and reproduction at the address in item (h) above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 8, 2016.
Kimberly D. Bose,
Secretary.

[FR Doc. 2016-16652 Filed 7-13-16; 8:45 am]

BILLING CODE 6717-01-P